INTERNATIONAL TRADE COMMISSION

[Inv. No. 337-TA-766]

In the Matter of Certain Gemcitabine and Products Containing Same; Notice of Commission Determination Not To Review an Initial Determination Terminating the Investigation

AGENCY: U.S. International Trade Commission.

ACTION: Notice.

SUMMARY: Notice is hereby given that the U.S. International Trade Commission has determined not to review an initial determination (“ID”) (Order No. 15) granting a motion to terminate the above-captioned investigation in its entirety, pursuant to Commission Rule 210.21 (19 CFR 210.21).

FOR FURTHER INFORMATION CONTACT: Clark S. Cheney, Office of the General Counsel, U.S. International Trade Commission, 500 E Street, SW., Washington, DC 20436, telephone 202-205-2661. Copies of non-confidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation on March 23, 2011, based on a complaint filed by Eli Lilly and Company (“Lilly”). 76 FR 16445. The complaint alleges violations of section 337 of the Tariff Act of 1930 (19 U.S.C. 1337) based upon the importation into the United States, the sale for importation, and the sale within the United States after importation of certain gemcitabine and products containing same by reason of infringement of certain claims of U.S. Patent No. 5,606,048. The complaint named Hospira, Inc. (“Hospira”); Intas Pharmaceuticals Ltd. (“Intas”); ChemWerth, Inc. (“ChemWerth”); and Jiangsu Hansoh Pharmaceutical Co., Ltd. (“Hansoh”) as respondents.

On August 9, 2011, Lilly, Hospira, and Intas filed a joint motion to terminate the investigation in its entirety under Commission Rule 210.21. On August 11, 2011, the Commission investigative attorney filed a response supporting the motion. On August 15, 2011, respondents ChemWerth and Hansoh filed a response supporting termination, but for different reasons than those advanced by Lilly, Hospira, and Intas.

On August 16, 2011, the ALJ issued the subject ID (Order No. 15) granting the motion to terminate the investigation in its entirety. No party petitioned for review of the ID.

The Commission has determined not to review the ID.

The authority for the Commission's determination is contained in section 337 of the Tariff Act of 1930, as amended (19 U.S.C. 1337), and in section 210.42(h)(3) of the Commission's Rules of Practice and Procedure (19 CFR 210.42(h)(3)).

By order of the Commission.
Issued: August 31, 2011.
James R. Holbein,
Secretary to the Commission.

[FR Doc. 2011-22668 Filed 9-2-11; 8:45 am]

BILLING CODE 7020-02-P